DEPARTMENT OF HEALTH AND HUMAN SERVICES

Substance Abuse and Mental Health Services Administration

Public Health Service; Notice of Listing of Members of the Substance Abuse and Mental Health Services Administration's Senior Executive Service Performance Review Board (PRB)

The Substance Abuse and Mental Health Services Administration (SAMHSA) announces the persons who will serve on the Substance Abuse and Mental Health Services Administration's Performance Review Board. This action is being taken in accordance with Title 5, U.S.C., section 4314(c)(4), which requires that members of performance review boards be appointed in a manner to ensure consistency, stability, and objectivity in performance appraisals, and requires that notice of the appointment of an individual to serve as a member be published in the Federal Register.

The following persons will serve on the SAMHSA Performance Review Board, which oversees the evaluation of performance appraisals of SAMHSA's Senior Executive Service (SES) members: Joseph Autry, M.D., Chairperson; H. Westley Clark, M.D., J.D., M.P.H; Ruth Sanchez-Way, Ph.D.; Randolph Wykoff, M.D., M.P.H., T.M.

For further information about the SAMHSA Performance Review Board, contact the Division of Human Resources Management, Substance Abuse and Mental Health Services Administration, 5600 Fishers Land, Room 14 C-24, Rockville, Maryland 20857, telephone (301) 443-5030 (not a toll-free number).

Dated: October 18, 2000.
Nelba Chavez,
Administrator, Substance Abuse and Mental Health Services Administration.

[FR Doc. 00-27451 Filed 10-25-00; 8:45 am]

BILLING CODE 4160-01-M